DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Hillsborough Area Regional Transit

[Renewal with Amendment to Waiver Petition Docket Number FRA-2002-13398]

Hillsborough Area Regional Transit (HARTLine), located in Tampa, Florida, seeks renewal, with amendment, of the conditions of its permanent waiver of compliance from Title 49 of the CFR for continued operation of its TECO Line streetcar system at a “limited connection” with the CSXT Railroad. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

In September 2004, the FRA Railroad Safety Board granted an extension of HARTLine's original waiver and its conditions for a period of eight months. HARTLine is now notifying the FRA of some modifications to its operating plan and equipment, and is requesting a permanent waiver of compliance, to include these modifications.

Based on the foregoing and with some modifications, HARTLine is seeking to renew its existing waiver of compliance from the provisions of the Code of Federal Regulations, 49 CFR part 219—Control of Alcohol and Drug Use, 49 CFR part 223 Safety Glazing Standards, and 49 CFR part 238—Passenger Equipment Safety Standards.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communication concerning these proceedings should identify the appropriate docket number (e.g., Waiver Petition Docket Number FRA-2002-13398) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://dms.dot.gov.

Issued in Washington, DC, on February 23, 2005.
Grady C. Cothen,
Deputy Associate Administrator for Safety Standards and Program Development.

[FR Doc. 05-4140 Filed 3-2-05; 8:45 am]

BILLING CODE 4910-06-P